DEPARTMENT OF ENERGY

Federal Energy Regulatory Commission

[Project No. 12680-003; Project No. 12711-003]

Ocean Renewable Power Company, LLC; Notice of Change in Docket Number

On July 24, 2009, Ocean Renewable Power Company, LLC (ORPC) filed a draft hydrokinetic pilot license application (DLA) for the proposed Eastport Tidal Energy Project, a proposal that unified two preliminary permits held by ORPC, the Cobscook Bay Tidal Energy Project preliminary permit (P-12711-004) and the Western Passage Tidal Energy Project preliminary permit (P-12680-004). The DLA was assigned a single docket number, P-12680-003, to represent the Eastport Tidal Energy Project pre-filing proceeding. ORPC has since dropped the Western Passage preliminary permit area from its pilot project proposal and is pursuing a pilot project license solely for the Cobscook Bay preliminary permit area. Due to this change in project proposal, ORPC has changed the name of its proposed pilot project from the Eastport Tidal Energy Project to the Cobscook Bay Tidal Energy Project.¹ Due to Western Passage no longer being a part of the pilot project proposal, the docket number P-12680-003 has been closed and the docket number P-12711-003 has been created and assigned to the Cobscook Bay Tidal Energy Project pre-filing proceeding. As part of this change in docket number, all current filings and issuances associated with the Eastport Tidal Energy Project pre-filing proceeding have been cross-referenced with P-12711-003. All future issuances and filings for the Cobscook Bay Tidal Energy Project pre-filing proceeding should solely reference docket number P-12711-003.

¹ ORPC letter filed March 16, 2011.

Dated: March 17, 2011.
Kimberly D. Bose,
Secretary.

[FR Doc. 2011-7984 Filed 4-4-11; 8:45 am]

BILLING CODE 6717-01-P